SECURITIES AND EXCHANGE COMMISSION

[OMB Control No. 3235-0382]

Agency Information Collection Activities; Submission for OMB Review; Comment Request; Extension: Schedule 14D-9F—Canadian Securities

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget (“OMB”) this request for extension of the previously approved collection of information discussed below.

Schedule 14D-9F (17 CFR 240.14d-103) under the Securities Exchange Act of 1934 (15 U.S.C. 78 et seq.) is used by foreign private issuers incorporated or organized under the laws of Canada or any Canadian province or territory or by any director or officer of such issuer, where the issuer is the subject of a cash tender or exchange offer for a class of securities filed on Schedule 14D-1F (17 CFR 240.14d-102). Schedule 14D-9F provides investors in the securities of Canadian foreign private issuers with the filer's recommended response to a tender offer, informing the investment decisions of securityholders, while reducing expense and increasing efficiency in connection with tender offer filings with the Commission by providing that disclosure required under Canadian law is a key aspect of the information required on Schedule 14D-9F. The information provided is mandatory and all information is available to the public. We estimate that Schedule 14D-9F carries a collection of information burden of approximately two hours per response and is filed by approximately one respondent annually for a total annual reporting burden of two hours (2 hours per response × 1 response annually). There is no separate cost burden associated with this information collection.

An agency may not conduct or sponsor, and a person is not required to respond to, a collection of information unless it displays a currently valid OMB Control Number.

The public may view and comment on this information collection request at: https://www.reginfo.gov/public/do/PRAViewICR?ref_nbr=202504-3235-020 or send an email comment to MBX.OMB.OIRA.SEC_desk_officer@omb.eop.gov within 30 days of the day after publication of this notice by October 14, 2025.

Dated: September 10, 2025.
Sherry Haywood,
Assistant Secretary.

[FR Doc. 2025-17677 Filed 9-11-25; 8:45 am]

BILLING CODE 8011-01-P